DEPARTMENT OF ENERGY

Federal Energy Regulatory Commission

[Docket No. CP02-57-005]

SCG Pipeline, Inc.; Notice of Amendment

September 3, 2003.

Take notice that on August 26, 2003, SCG Pipeline, Inc. (SCG), P.O. Box 102407, Columbia, South Carolina 29224-2407, filed in Docket No. CP02-57-005, an amendment to its certificate application pursuant to Section 7(c) of the Natural Gas Act (NGA), as amended, and part 157 of the regulations of the Federal Energy Regulatory Commission (Commission), for authorization to amend the certificate of public convenience and necessity issued to SCG on September 20, 2002, approving construction of its proposed facilities, including the Port Wentworth Meter Station, located in Chatham County, Georgia, all as more fully set forth in the amendment which is on file with the Commission and open to public inspection. This filing is available for review at the Commission or may be viewed on the Commission's Web site at http://www.ferc.gov using the e-Library (FERRIS) link. Enter the docket number excluding the last three digits in the docket number field to access the document. For assistance, please contact FERC Online Support at FERCOnlineSupport@ferc.gov or toll-free at (866) 208-3676, or for TTY, contact (202) 502-8659.

SCG states that the purpose of this amendment is to request a change in the ownership percentage of the Port Wentworth meter and regulating station to reflect the fact that this meter station is now jointly owned with Southern Natural Gas Company (Southern Natural). As a result of this joint ownership, SCG states that it will have a sixty-one and one-tenth percent (61.1%) ownership interest in the Port Wentworth Meter Station, with Southern Natural owning the remaining thirty-eight and nine-tenths percent (38.9%) ownership interest in the meter station. SCG states that Southern Natural has already filed to amend its certificate in Docket No. CP02-1-000 to reflect this amended ownership in the Port Wentworth Meter Station and this amendment was approved by the Commission on February 28, 2003.

Any questions concerning this amendment may be directed to Troy Blalock, Project Manager, SCG Pipeline, Inc., 105 New Way Road, Columbia, South Carolina 29223, at (803) 217-1811, or fax (803) 217-2104.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

Comment Date: September 19, 2003.

Magalie R. Salas,
Secretary.

[FR Doc. 03-22867 Filed 9-8-03; 8:45 am]

BILLING CODE 6717-01-P